DEPARTMENT OF THE INTERIOR

Fish and Wildlife Service

[FWS-R4-ES-2008-N00161; 40120-1112-0000-F2]

Receipt of an Application for an Incidental Take Permit for Commercial Construction in Charlotte County, FL

AGENCY: Fish and Wildlife Service, Interior.

ACTION: Notice; request for comments.

SUMMARY: We, the Fish and Wildlife Service (Service), announce the availability of an incidental take permit (ITP) and Habitat Conservation Plan (HCP). Charlotte County (applicant) requests an ITP pursuant to section 10(a)(1)(B) of the Endangered Species Act of 1973, as amended (Act). The applicant anticipates taking about 0.46 acre of foraging and sheltering habitat occupied by the threatened Florida scrub-jay (Aphelocoma coerulescens) (scrub-jay) incidental to lot preparation for the construction of a library and supporting infrastructure in Charlotte County, Florida (Project). The applicant's Habitat Conservation Plan (HCP) describes the mitigation and minimization measures proposed to address the effects of the Project to the scrub-jay.

DATES: We must receive your written comments on the ITP application and HCP on or before August 21, 2008.

ADDRESSES: See the SUPPLEMENTARY INFORMATION section below for information on how to submit your comments on the ITP application and HCP. You may obtain a copy of the ITP application and HCP by writing to the South Florida Ecological Services Office, Attn: Permit number TE165374-0, U.S. Fish and Wildlife Service, 1339 20th Street, Vero Beach, FL 32960-3559. In addition, we will make the ITP application and HCP available for public inspection by appointment during normal business hours at the above address.

FOR FURTHER INFORMATION CONTACT: Ms. Trish Adams, Fish and Wildlife Biologist, South Florida Ecological Services Office (see ADDRESSES); telephone: (772) 562-3909, ext. 232.

SUPPLEMENTARY INFORMATION: If you wish to comment on the ITP application and HCP, you may submit comments by any one of the following methods. Please reference permit number TE165374-0 in such comments.

1. Mail or hand-deliver comments to our South Florida Ecological Services Office address (see ADDRESSES).

2. E-mail comments to trish_adams@fws.gov. If you do not receive a confirmation that we have received your e-mail message, contact us directly at the telephone number listed under FOR FURTHER INFORMATION CONTACT.

Before including your address, phone number, e-mail address, or other personal identifying information in your comments, you should be aware that your entire comment—including your personal identifying information—may be made publicly available at any time. While you can ask us in your comment to withhold your personal identifying information from public review, we cannot guarantee that we will be able to do so.

Commercial construction for the West County Library HCP will take place at latitude 26.942 and longitude 82.271 in Englewood, Charlotte County, Florida. This lot is within scrub-jay occupied habitat.

The lot encompasses about 12.06 acres, and the footprint of the library, infrastructure, and landscaping preclude retention of scrub-jay habitat. In order to minimize take on site, the applicant proposes to mitigate for the loss of 0.46 acre of scrub-jay habitat by restoring and protecting in perpetuity 1.16 acres of occupied scrub-jay habitat adjacent to existing conservation lands.

We have determined that the applicant's proposal, including the proposed mitigation and minimization measures, will have a minor or negligible effect on the species covered in the HCP. Therefore, the ITP is a “low-effect” project and qualifies as a categorical exclusion under the National Environmental Policy Act (NEPA) (40 CFR 1506.6), as provided by the Department of the Interior Manual (516 DM 2 Appendix 1 and 516 DM 6 Appendix 1). Low-effect HCPs are those involving (1) minor or negligible effects on federally listed or candidate species and their habitats and (2) minor or negligible effects on other environmental values or resources. Based on our review of public comments that we receive in response to this notice, we may revise this preliminary determination.

We will evaluate the HCP and comments submitted thereon to determine whether the application meets the requirements of section 10(a) of the Act (16 U.S.C. 1531 et seq.). If we determine that the application meets the requirements, we will issue the ITP for incidental take of the Florida scrub-jay. We will also evaluate whether issuance of the section 10(a)(1)(B) ITP complies with section 7 of the Act by conducting an intra-Service section 7 consultation. We will use the results of this consultation, in combination with the above findings, in the final analysis to determine whether or not to issue the ITP.

Authority: We provide this notice pursuant to section 10 of the Endangered Species Act (16 U.S.C. 1531 et seq.) and NEPA regulations (40 CFR 1506.6).

Dated: June 25, 2008.
Paul Souza,
Field Supervisor, South Florida Ecological Services Office.

[FR Doc. E8-16727 Filed 7-21-08; 8:45 am]

BILLING CODE 4310-55-P